DEPARTMENT OF LABOR

Employment and Training Administration

[TA-W-83,298]

Vantiv, LLC; A Wholly-Owned Subsidiary of Vantiv Holding, LLC; Vantiv, Inc.; Including Workers Who Wages Were Reported Under Fifth Third Processing Solutions, LLC; Including On-Site Leased Workers From Adecco, Aerotek, Ascendum, Callibrity Solutions, LLC, Cardinal Solutions, Centric, Cincinnati Bell Technology, Cohesion, Exeris, Footbridge, Illumination Works, Ingage Partners, LLC, Kalvin Consulting, K-Force, Lakeshore, Lucrum, Mainline Information Systems, Inc., Manpower, Mergis Group, Messina, Midwest Financial Staffing, Modis, Partner Technology, Pomeroy, Precision Staffing Services, LLC, Prosoft Technology Group, Resources Global Professionals, Robert Half International, Sei, Sogeti USA, Staffmark, Superior Search & Staffing, Systems Insight, TEKSystems, Triple E Partners and Vendor Pass Symmes Township, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2014, applicable to workers of Vantiv, LLC, a wholly owned subsidiary of Vantiv Holding, LLC, Vantiv, Inc., including on-site leased workers from Adecco, Aerotek, Asendum, Callibrity Solutions, LLC, Cardinal Solutions, Centric, Cincinnati Bell Technology, Cohesion, Experis, Footbridge, Illumination Works, Ingage Partner, LLC, Kalvin Consulting, K-Force, Lakeshore, Lucrum, Mainline Information Systems, Inc., Manpower, Mergis Group, Messina, Midwest Financial Staffing, Modis, Partner Technology, Pomeroy, Precision Staffing Services, LLC, Prosoft Technology, Resources Global Professionals, Robert Half International, SEI, Sogeti USA, Staffmark, Superior Search & Staffing, TEKSystems, Triple E Partners, and Vendor Pass, Symmes Township, Ohio.

At the request of a state workforce official, the Department reviewed the certification for workers of the subject firm. The workers were engaged in activities related to the supply of financial transaction processing.

New information shows that some workers separated from employment at the subject firm had their wages reported under the former subject firm name, Fifth Third Processing Solutions, LLC.

Accordingly, the Department is amending this certification to properly reflect this matter.

The intent of the Department's certification is to include all workers of the subject firm who were adversely affected by a shift in services to a foreign country.

The amended notice applicable to TA-W-83,298 is hereby issued as follows:

“All workers of Vantiv, LLC, a wholly owned subsidiary of Vantiv Holding, LLC, Vantiv, Inc., including workers whose wages were reported under Fifth Third Processing Solutions, LLC, including on-site leased workers from Adecco, Aerotek, Asendum, Callibrity Solutions, LLC, Cardinal Solutions, Centric, Cincinnati Bell Technology, Cohesion, Experis, Footbridge, Illumination Works, Ingage Partner, LLC, Kalvin Consulting, K-Force, Lakeshore, Lucrum, Mainline Information Systems, Inc., Manpower, Mergis Group, Messina, Midwest Financial Staffing, Modis, Partner Technology, Pomeroy, Precision Staffing Services, LLC, Prosoft Technology, Resources Global Professionals, Robert Half International, SEI, Sogeti USA, Staffmark, Superior Search & Staffing, TEKSystems, Triple E Partners, and Vendor Pass, Symmes Township, Ohio, who became totally or partially separated from who became totally or partially separated from employment on or after December 16, 2012 through February 3, 2016, and all workers in the group threatened with total or partial separation from employment on date of certification through two years from the date of certification, are eligible to apply for adjustment assistance under Chapter 2 of Title II of the Trade Act of 1974, as amended.”

Signed at Washington, DC this 23rd day of May, 2014.
Del Min Amy Chen,
Certifying Officer, Office of Trade Adjustment Assistance.

[FR Doc. 2014-13189 Filed 6-5-14; 8:45 am]

BILLING CODE 4510-FN-P